DEPARTMENT OF TRANSPORTATION

Federal Transit Administration

Limitation on Claims Against a Proposed Public Transportation Project—Chicago Red Line Extension (RLE) Project

AGENCY: Federal Transit Administration (FTA), Department of Transportation (DOT).

ACTION: Notice.

SUMMARY: This notice announces final environmental actions taken by the Federal Transit Administration (FTA) regarding the Chicago Red Line Extension (RLE) Project in Cook County, Chicago, Illinois. The purpose of this notice is to announce publicly the environmental decisions by FTA on the subject project and to activate the limitation on any claims that may challenge these final environmental actions.

DATES: A claim seeking judicial review of FTA actions announced herein for the listed public transportation project will be barred unless the claim is filed on or before January 30, 2023.

FOR FURTHER INFORMATION CONTACT: Kathryn Loster, Assistant Chief Counsel, Office of Chief Counsel, (312) 705-1269, or Saadat Khan, Environmental Protection Specialist, Office of Environmental Programs, (202) 366-9647. FTA is located at 1200 New Jersey Avenue SE, Washington, DC 20590. Office hours are from 9 a.m. to 5 p.m., Monday through Friday, except Federal holidays.

SUPPLEMENTARY INFORMATION: Notice is hereby given that FTA has taken final agency actions subject to 23 U.S.C. 139(l) by issuing certain approvals for the public transportation project listed below. The actions on the project, as well as the laws under which such actions were taken, are described in the documentation issued in connection with the project to comply with the National Environmental Policy Act (NEPA) and in other documents in the FTA environmental project files for the project. Interested parties may contact either the project sponsor or the relevant FTA Regional Office for more information. Contact information for FTA's Regional Offices may be found at https://www.transit.dot.gov.

This notice applies to all FTA decisions on the listed project as of the issuance date of this notice and all laws under which such actions were taken, including, but not limited to, NEPA (42 U.S.C. 4321-4375), section 4(f) requirements (23 U.S.C. 138, 49 U.S.C. 303), section 106 of the National Historic Preservation Act (54 U.S.C. 306108), Endangered Species Act (16 U.S.C. 1531), Clean Water Act (33 U.S.C. 1251), and the Clean Air Act (42 U.S.C. 7401-7671q). This notice does not, however, alter or extend the limitation period for challenges of project decisions subject to previous notices published in the Federal Register. The project and actions that are the subject of this notice follow:

Project name and location: Chicago Red Line Extension (RLE) Project, Chicago, Illinois.

Project sponsor: The Chicago Transit Authority (CTA), Chicago, Illinois.

Project description: The Chicago RLE Project is a 5.6-mile heavy rail transit line extension from the existing 95th/Dan Ryan terminal to 130th Street. The RLE Project involves construction of four (4) new stations near 103rd Street, 111th Street, Michigan Avenue, and 130th Street consisting of multimodal connections at each station including bus, bicycle, pedestrian, and park-and-ride facilities with approximately 1,340 parking spaces along the corridor. The project also includes construction of a modern, efficient railcar storage yard and shop facility at 120th Street.

Final agency actions: Section 4(f) de minimis impact determination, dated July 28, 2022; Section 106 No Adverse Effect determination, dated August 10, 2021; and Chicago Red Line Extension (RLE) Project Final Environmental Impact Statement (FEIS)/Record of Decision (ROD), dated July 28, 2022. Supporting documentation: Chicago Red Line Extension (RLE) Project Draft Environmental Impact Statement (DEIS), dated October 6, 2016, and Chicago Red Line Extension (RLE) Project Supplemental Environmental Assessment (SEA), dated January 4, 2022. The ROD/FEIS, DEIS, SEA and associated documents can be viewed and downloaded from: https://www.transitchicago.com/rle/.

Authority: 23 U.S.C. 139(l)(1).

Mark A. Ferroni,
Deputy Associate Administrator for Planning and Environment.

[FR Doc. 2022-18816 Filed 8-30-22; 8:45 am]

BILLING CODE 4910-57-P